NATIONAL AERONAUTICS AND SPACE ADMINISTRATION

[Notice: (23-116); Document Number NASA-23-XXX; Docket Number-NASA-2022-0002]

National Environmental Policy Act; Mars Sample Return Campaign

AGENCY: National Aeronautics and Space Administration (NASA).

ACTION: Notice of availability of the Mars Sample Return (MSR) Campaign Record of Decision (ROD) for the Final Programmatic Environmental Impact Statement (PEIS).

SUMMARY: NASA announces its decision to implement the flight elements of the MSR Campaign. NASA's decision is supported by the detailed analysis found in the Final PEIS, as summarized in the agency's ROD, the availability of which is located under ADDRESSES.

Cooperating agencies for the MSR Campaign effort include the Department of the Air Force (DAF) for Hill Air Force Base, Utah, and Cape Canaveral Space Force Station, Florida; the Department of the Army for Dugway Proving Ground; the U.S. Department of Agriculture; and the U.S. Department of Health and Human Services—Centers for Disease Control and Prevention.

ADDRESSES: The complete text of the Tier 1 ROD for the MSR Campaign, as well as the Draft and Final PEIS, along with other supporting informational materials, are available at https://www.nasa.gov/feature/nepa-mars-sample-return-campaign. All comments received on the Draft PEIS are available in their entirety on the MSR Campaign Docket at https://www.regulations.gov/docket/NASA-2022-0002.

FOR FURTHER INFORMATION CONTACT: Mr. Steve Slaten, NASA Jet Propulsion Laboratory, by electronic mail at Mars-sample-return-nepa@lists.nasa.gov or by telephone at 202-358-0016. For questions regarding viewing the Docket, please call the Regulations.gov Help Desk at telephone: 1-877-378-5457 (toll free) or 703-454-9859.

SUPPLEMENTARY INFORMATION: The MSR Campaign includes a series of flight elements to Mars and ground operations on Earth, including spacecraft launches from Earth to Mars, retrieving the samples on Mars, and delivering them to Earth for study. The Preferred Alternative consists of the sum of the following: (1) launch of the Sample Retrieval Lander (SRL) element from Cape Canaveral Space Force Station or Kennedy Space Center and launch of the Earth Return Orbiter (ERO), which includes the Earth Entry System (EES), from the European Space Agency's launch facility in French Guiana; (2) landing of the EES (containing the retrieved Martian samples) back on Earth at the DAF-managed Utah Test and Training Range (UTTR); (3) recovery of the EES at UTTR, with supporting activities proposed at the U.S. Army-managed Dugway Proving Ground (DPG) in preparation for transfer of the EES with enclosed samples to a Sample Receiving Facility (SRF); (4) a programmatic review of representative modes of transportation of the EES from DPG to an SRF; and (5) a programmatic review of development and operation of representative types of an SRF. These last two ground elements of the MSR Campaign will be addressed under a forthcoming, tiered NEPA analysis and a separate ROD (i.e., Tier 2 ROD).

The Final PEIS found that no significant adverse impacts are anticipated from implementing the MSR Campaign flight elements. NASA, in coordination with the DAF, will prepare a collaborative mitigation and monitoring plan to identify and track all short-term and long-term site preparation and EES recovery activities, non-discretionary requirements (e.g., permit requirements), and Best Management Practices to ensure all actions to minimize potential environmental impacts associated with activities at DAF installations are accomplished in a timely and environmentally protective fashion.

Joel R. Carney,
Assistant Administrator, Office of Strategic Infrastructure.

[FR Doc. 2023-25242 Filed 11-15-23; 8:45 am]

BILLING CODE 7510-13-P